DEPARTMENT OF COMMERCE

United States Patent and Trademark Office

[Docket No. PTO-P-2011-0046]

Extension of the Period for Comments on the Preparation of Patent Applications

AGENCY: United States Patent and Trademark Office, Commerce.

ACTION: Request for comments; extension of the comment period.

SUMMARY: The United States Patent and Trademark Office (USPTO) published a request for comments on the preparation of patent applications, seeking input on potential practices that applicants can employ at the drafting stage of a patent application in order to facilitate examination and bring more certainty to the scope of issued patents. The USPTO has received several requests for additional time to submit comments on the preparation of patent applications. Accordingly, the USPTO is extending the comment period to provide interested members of the public with additional time to submit comments to the USPTO.

DATES: Comment Deadline Date: To be assured of consideration, written comments must be received on or before April 15, 2013.

ADDRESSES: Written comments should be sent by electronic mail addressed to QualityApplications_Comments@uspto.gov. Comments may also be submitted by mail addressed to: Mail Stop Comments—Patents, Commissioner for Patents, P.O. Box 1450, Alexandria, VA 22313-1450, marked to the attention of Nicole D. Haines. Although comments may be submitted by postal mail, the USPTO prefers to receive comments via electronic mail because sharing comments with the public is more easily accomplished.

The comments will be available for public inspection on the USPTO's Web site at http://www.uspto.gov, and will also be available at the Office of the Commissioner for Patents, currently located in Madison East, Tenth Floor, 600 Dulany Street, Alexandria, Virginia. Because comments will be made available for public inspection, information that the submitter does not desire to make public, such as an address or phone number, should not be included in the comments. Parties who would like to rely on confidential information to illustrate a point are requested to summarize or otherwise submit the information in a way that will permit its public disclosure.

FOR FURTHER INFORMATION CONTACT: Nicole D. Haines, Legal Advisor, at (571) 272-7717; Kathleen Kahler Fonda, Senior Legal Advisor, at (571) 272-7754; or Matthew J. Sked, Legal Advisor, at (571) 272-7627, of the Office of Patent Legal Administration, Office of the Deputy Commissioner for Patent Examination Policy. General patent practice inquiries may be directed to the Office of Patent Legal Administration, by telephone at (571) 272-7701, or by electronic mail at PatentPractice@uspto.gov.

SUPPLEMENTARY INFORMATION: On January 15, 2013, the USPTO published a notice requesting comments from the public on potential practices that applicants can employ at the drafting stage of a patent application in order to facilitate examination and bring more certainty to the scope of issued patents. See Request for Comments on Preparation of Patent Applications, 78 FR 2960 (January 15, 2013). Specifically, the USPTO requested input on whether adoption of a variety of potential practices by applicants early in the patent preparation process would assist the public in determining the scope of claims as well as the meaning of claim terms in the specification after a patent is granted. The notice invited the public to submit written comments on the potential practices on or before March 15, 2013. The USPTO has received several requests for additional time to submit comments, and is now extending the period for submission of public comments until April 15, 2013.

Dated:_March 11, 2013.
Teresa Stanek Rea,
Acting Under Secretary of Commerce for Intellectual Property and Acting Director of the United States Patent and Trademark Office.

[FR Doc. 2013-06013 Filed 3-14-13; 8:45 am]

BILLING CODE 3510-16-P